DEPARTMENT OF HEALTH AND HUMAN SERVICES

Centers for Medicare & Medicaid Services

[Document Identifier: CMS-10175, CMS-10236, and CMS-179]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Reinstatement without change of a previously approved collection; Title of Information Collection: Certification Statement for Electronic File Interchange Organizations (EFIOs); Use: Health care providers can currently obtain a National Provider Identifier (NPI) via a paper application or over the Internet through the National Plan and Provider Enumeration System (NPPES). These applications must be submitted individually, on a per-provider basis. The Electronic File Interchange (EFI) process allows provider-designated electronic file interchange organizations (EFIOs) to capture multiple providers' NPI application information on a single electronic file for submission to NPPES. This process is also referred to as “bulk enumeration.” To ensure that the EFIO has the authority to act on behalf of each provider and complies with other Federal requirements, an authorized official of the EFIO must sign a certification statement and mail it to the Centers for Medicare and Medicaid Services (CMS). Form Number: CMS-10175 (OMB# 0938-0984); Frequency: Once; Affected Public: Private Sector—Business or other for-profits; Number of Respondents: 300; Total Annual Responses: 300; Total Annual Hours: 300.

2. Type of Information Collection Request: New collection; Title of Information Collection: Disclosure of Financial Relationships Report (“DFRR”); Use: Section 1877(f) of the Social Security Act requires that each entity providing covered items or services for which payment may be made shall provide the Secretary with information concerning the entity's ownership and investment interests, and compensation arrangements, in such form, manner, and at such times as the Secretary shall specify. The DFRR collection instrument will be used by CMS to (1) identify arrangements that potentially may not be in compliance with the physician self-referral statute and implementing regulations; and (2) to identify examples and areas of non-compliance that may assist us in any future rulemaking concerning the reporting requirements and other physician self-referral provisions. Form Number: CMS-10236 (OMB# 0938-New); Frequency: Once; Affected Public: Private Sector—Business or other for-profits and Not-for-profit institutions; Number of Respondents: 400; Total Annual Responses: 400; Total Annual Hours: 40,000.

3. Type of Information Collection Request: Revision of a currently approved collection; Title of Information Collection: Transmittal and Notice of Approval of State Plan Material and Medicaid State Plan—Base Plan, Attachments and Supplemental Pages and Supporting Regulations in 42 CFR 430.10-430.20 and 440.167; Use: The Medicaid State base plan pages and attachments are documents utilized by State and territorial agencies which have the responsibility for administering the Medicaid program. The Medicaid State plan is comprised of “pages” and organized by subject matter which includes Medicaid eligibility services, payment for services, and general, financial and personnel administration. When States seek to change selected pages of their State plans, the page(s) are transmitted to CMS for review and approval by the CMS Central and Regional Offices prior to amending its State plan. Form Number: CMS-179 (OMB# 0938-0193); Frequency: Once and as needed; Affected Public: State, Local, or Tribal Governments; Number of Respondents: 56; Total Annual Responses: 4,681; Total Annual Hours: 9,271.

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on January 20, 2009.

OMB, Office of Information and Regulatory Affairs, Attention: CMS Desk Officer, New Executive Office Building, Room 10235, Washington, DC 20503, Fax Number: (202) 395-6974.

Dated: December 12, 2008.
Michelle Shortt,
Director, Regulations Development Group, Office of Strategic Operations and Regulatory Affairs.

[FR Doc. E8-30327 Filed 12-18-08; 8:45 am]

BILLING CODE 4120-01-P